DEPARTMENT OF ENERGY

Federal Energy Regulatory Commission

[Docket No. EL16-19-000]

ISO New England Inc. Participating Transmission Owners Administrative Committee: Emera Maine; Town of Braintree Electric Light Department; NSTAR Electric Company; Chicopee Electric Light Department; Central Maine Power Company; Maine Electric Power Company (MEPCO); Connecticut Municipal Electric Energy Cooperative & Connecticut Transmission Municipal Electric Energy Cooperative; The City of Holyoke Gas and Electric Department; New Hampshire Transmission, LLC; Green Mountain Power Corporation; Massachusetts Municipal Wholesale Electric Company; New England Power Company, d/b/a National Grid; New Hampshire Electric Cooperative, Inc.; Eversource Energy Service Company as agent for: The Connecticut Light and Power Company, Western Massachusetts Electric Company, and Public Service Company of New Hampshire; Town of Hudson Light and Power Department; Town of Middleborough Gas & Electric Department; Town of Norwood Municipal Light Department; Town of Reading Municipal Light Department; Town of Wallingford (CT) Electric Division; Taunton Municipal Lighting Plant; The United Illuminating Company; Unitil Energy Systems, Inc. and Fitchburg Gas and Electric Light Company; Vermont Electric Cooperative, Inc.; Vermont Electric Power Company, Inc. and Vermont Transco, LLC; Vermont Public Power Supply Authority; Shrewsbury Electric and Cable Operations

Notice of Institution of Section 206 Proceeding and Refund Effective Date

On December 28, 2015, the Commission issued an order in Docket No. EL16-19-000, pursuant to section 206 of the Federal Power Act (FPA), 16 U.S.C. 824e (2012), instituting an investigation into the justness and reasonableness of ISO-New England, Inc. Participating Transmission Owners' Regional Network Service and Local Network Service formula rates. ISO-New England, Inc. Participating Transmission Owners Administrative Committee, 153 FERC ¶ 61,343 (2015).

The refund effective date in Docket No. EL16-19-000, established pursuant to section 206(b) of the FPA, will be the date of publication of this notice in the Federal Register.

Dated: December 28, 2015.
Nathaniel J. Davis, Sr.,
Deputy Secretary.

[FR Doc. 2015-33034 Filed 12-31-15; 8:45 am]

BILLING CODE 6717-01-P